DEPARTMENT OF COMMERCE

International Trade Administration

[A-580-816]

Corrosion-Resistant Carbon Steel Flat Products From the Republic of Korea: Final Results of Antidumping Duty Administrative Review; 2011-2012

AGENCY: Enforcement and Compliance, formerly Import Administration, International Trade Administration, Department of Commerce.

SUMMARY: In response to requests from interested parties, the Department of Commerce (the Department) is conducting an administrative review of the antidumping duty order on corrosion-resistant carbon steel flat products (CORE) from the Republic of Korea (Korea). The period of review (POR) is August 1, 2011, through February 14, 2012,1 2 and covers Dongbu Steel Co., Ltd., (Dongbu), and Hyundai HYSCO (HYSCO), and five non-examined companies.³ We determine that Dongbu sold subject merchandise at less than normal value (NV) during the POR. We determine that HYSCO did not sell subject merchandise at less than NV during the POR.

¹ See Initiation of Antidumping and Countervailing Duty Administrative Reviews and Requests for Revocation in Part, 77 FR 59168 (September 26, 2012).

² The period of review ends on February 14, 2012 because the antidumping duty order on CORE from Korea was revoked effective on this date. See Corrosion-Resistant Carbon Steel Flat Products from Germany and the Republic of Korea: Revocation of Antidumping and Countervailing Duty Orders, 78 FR 16832 (March 19, 2013) (CORE Revocation).

³ The non-examined companies are: Dongkuk Industries Co., Ltd. (Dongkuk), Haewon MSC Co. Ltd. (Haewon), LG Chem., Ltd. (LG Chem), LG Hausys, Ltd. (Hausys), and Union Steel Manufacturing Co., Ltd. (Union); see Memorandum to Melissa G. Skinner, Director, Office 3, AD/CVD Operations through Eric Greynolds, Program Manager, Office 3, AD/CVD Operations from Christopher Hargett, Senior International Trade Compliance Analyst, Office 3, AD/CVD Operations, titled “Selection of Respondents for Individual Review,” dated November 19, 2012.

DATES: Effective Date: March 28, 2014.

FOR FURTHER INFORMATION CONTACT: Stephanie Moore (Dongbu) or Christopher Hargett (HYSCO), Enforcement and Compliance, Office III, International Trade Administration, U.S. Department of Commerce, 14th Street and Constitution Avenue NW., Washington, DC 20230; telephone: (202) 482-3692 or (202) 482-4161, respectively.

SUPPLEMENTARY INFORMATION:

Background

On September 9, 2013, the Department published the Preliminary Results,⁴ and invited interested parties to comment. On November 8, 2013, Hysco, Dongbu, Union, and LG Hausys filed case briefs. On November 13, 2013, Nucor Corporation filed a rebuttal brief. On November 14, 2013, U.S. Steel Corporation filed a rebuttal brief, which was rejected by the Department as past the deadline for the submission of rebuttal briefs.⁵

⁴ See Corrosion-Resistant Carbon Steel Flat Products from the Republic of Korea: Preliminary Results of Antidumping Duty Administrative Review; 2011- 2012, 78 FR 55057 (September 9, 2013) (Preliminary Results).

⁵ See Memorandum to the File through Eric Greynolds, Program Manager, Office 3, AD/CVD Operations from Christopher Hargett, International Trade Compliance Analyst, Office 3, AD/CVD Operations, titled “Rejection of Rebuttal Brief,” dated November 20, 2013.

As explained in the memorandum from the Assistant Secretary for Enforcement and Compliance, the Department has exercised its discretion to toll deadlines for the duration of the closure of the Federal Government from October 1, through October 16, 2013. Therefore, all deadlines in this segment of the proceeding have been extended by 16 days.⁶ Pursuant to the Tolling Memo, the deadline for the final results of this review was revised with a due date of January 23, 2014.

⁶ See Memorandum for the Record from Paul Piquado, Assistant Secretary for Enforcement and Compliance, “Deadlines Affected by the Shutdown of the Federal Government” (October 18, 2013) (Tolling Memo).

On January 2, 2014, the Department issued a memorandum extending the time period for issuing the final results of this administrative review from January 23, 2014 to March 24, 2014.⁷

⁷ See Memorandum to Gary Taverman, Senior Advisor for Antidumping and Countervailing Duty Operations through Melissa Skinner, Director, Office III, Antidumping and Countervailing Duty Operations from Christopher Hargett, Sr. International Trade Compliance Analyst, Office III, AD/CVD Operations, titled “Corrosion-Resistant Carbon Steel Flat Products from the Republic of Korea: Extension of Time Limit for Final Results of Antidumping Duty Administrative Review,” dated January 2, 2014.

Period of Review

The POR covered by this review is August 1, 2011, through February 14, 2012.⁸

⁸ See Preliminary Results, 78 FR at 55057 n.2.

Scope of the Order

Imports covered by the order are shipments of flat-rolled carbon steel products. The merchandise subject to review is currently classifiable under items 7210.30.0030, 7210.30.0060, 7210.41.0000, 7210.49.0030, 7210.49.0090, 7210.49.0091, 7210.49.0095, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, and 7217.90.5090 of the Harmonized Tariff Schedule of the United States (HTSUS). Although the HTSUS subheadings are provided for convenience and customs purposes, the written description of the merchandise subject to the order is dispositive.⁹

⁹ For a full description of the scope of the order, see the “Decision Memorandum for the Final Results of Antidumping Duty Administrative Review: Corrosion-Resistant Carbon Steel Flat Products from the Republic of Korea” from Gary Taverman, Senior Advisor for Antidumping and Countervailing Duty Operations, to Paul Piquado, Assistant Secretary for Enforcement and Compliance, (Issues and Decision Memorandum) dated concurrently with these results and hereby adopted by this notice.

Analysis of Comments Received

All issues raised in the case briefs by parties to this proceeding are listed in the Appendix to this notice. Parties' rebuttal comments and the Department's response to these issues are addressed in the Issues and Decision Memorandum, dated concurrently with this notice.¹⁰ The Issues and Decision Memorandum is a public document and is on file in the Central Records Unit (CRU), Room 7046 of the main Department of Commerce Building, as well as electronically via Enforcement and Compliance's Antidumping and Countervailing Duty Centralized Electronic Service System (IA ACCESS). IA ACCESS is available to registered users at http://iaacess.trade.gov and is available to all parties in the CRU. In addition, a complete version of the Issues and Decision Memorandum can be accessed directly on the internet at http://enforcement.trade.gov/frn/. The signed Issues and Decision Memorandum and the electronic versions of the Issues and Decision Memorandum are identical in content.

¹⁰ See the Issues and Decision Memorandum.

Final Results of the Review

As a result of this review, we determine the following weighted-average dumping margins ¹¹ exist for the period August 1, 2011, through February 14, 2012:

¹¹ Because there was only one rate that was not zero, de minimis, or based on total facts available, we are using this weighted-average dumping margin (Dongbu's) as the rate for the non-examined companies.

Producer or exporter | Weighted-average dumping margin (percent)
Dongbu Steel Co., Ltd. | 7.64
Hyundai HYSCO | 0.00
Dongkuk Industries Co., Ltd. | 7.64
Haewon MSC Co. Ltd. | 7.64
LG Chem., Ltd. | 7.64
LG Hausys, Ltd. | 7.64
Union Steel Manufacturing Co., Ltd. | 7.64

Disclosure

In accordance with 19 CFR 351.224(b), we will disclose the calculation memorandums used in our analysis to parties to this review within five days of the date of publication of this notice.

Assessment Rates

The Department shall determine, and U.S. Customs and Border Protection (CBP) shall assess, antidumping duties on all appropriate entries covered by this review.¹² Since the weighted-average dumping margin is not zero or de minimis for Dongbu, we calculated importer-specific ad valorem antidumping duty assessment rates based on the ratio of the total amount of dumping calculated for an importer's examined sales to the total entered value of those same sales in accordance with 19 CFR 351.212(b)(1). Where an importer-specific assessment rate is zero or de minimis, we will instruct CBP to liquidate the appropriate entries without regard to antidumping duties.¹³

¹² See 19 CFR 351.212(b)(1).

¹³ See 19 CFR 351.106(c)(2).

For HYSCO, we will instruct CBP to liquidate its appropriate entries without regard to antidumping duties because HYSCO's weighted-average dumping margin is zero percent. For the five non-examined respondents in this review, we will instruct CBP to liquidate their entries at a rate of 7.64%.

The Department clarified its “automatic assessment” regulation on May 6, 2003.¹⁴ This clarification will apply to entries of subject merchandise during the POR produced by each respondent for which they did not know that their merchandise was destined for the United States. In such instances, we will instruct CBP to liquidate unreviewed entries at the all-others rate if there is no rate for the intermediate company(ies) involved in the transaction.¹⁵

¹⁴ See Antidumping and Countervailing Duty Proceedings: Assessment of Antidumping Duties, 68 FR 23954 (May 6, 2003).

¹⁵ For a full discussion of this clarification, see id.

We intend to issue instructions to CBP 15 days after publication of the final results of this review.

Cash Deposit Requirements

The Department notified CBP to discontinue the collection of cash deposits on entries of the subject merchandise, entered or withdrawn from warehouse, on or after February 14, 2012.¹⁶ Therefore, no cash deposit requirements will be imposed in response to these final results.

¹⁶ See CORE Revocation, 78 FR at 16833.

Reimbursement of Duties

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties pursuant to 19 CFR 351.402(f)(3).

Notification to Interested Parties

This notice also serves as a final reminder to parties subject to administrative protective order (APO) of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and terms of an APO is a sanctionable violation.

These final results of administrative review are issued and published in accordance with sections 751(a)(1) and 777(i)(1) of the Act and 19 CFR 351.213(h).

Dated: March 24, 2014.
Paul Piquado,
Assistant Secretary for Enforcement and Compliance.

Appendix

Issues in Issues and Decision Memorandum

I. Summary

II. Background

III. Period of Review

IV. Scope of the Order

V. List of Comments

Comment 1: Use of Dongbu's Costs for the Period August 1, 2011, to July 31, 2012

Comment 2: Calculation of General and Administrative and Interest Expenses

Comment 3: Application of Differential Pricing and Zeroing in Administrative Reviews

Comment 4: Denial of Offsets with the Average-to-Transaction Method

VI. Analysis of Comments

VII. Recommendation

[FR Doc. 2014-06995 Filed 3-27-14; 8:45 am]

BILLING CODE 3510-DS-P